ENVIRONMENTAL PROTECTION AGENCY

40 CFR Parts 19 and 27

[FRL-7261-5]

Civil Monetary Penalty Inflation Adjustment Rule

AGENCY: Environmental Protection Agency (EPA).

ACTION: Withdrawal of direct final rule.

SUMMARY: Because EPA received adverse comment, we are withdrawing the direct final rule amending the final Civil Monetary Penalty Inflation Adjustment Rule, which was mandated by the Debt Collection Improvement Act of 1996. That legislation required federal agencies to adjust civil monetary penalties for inflation on a periodic basis. EPA published the direct final rule on June 18, 2002 (67 FR 41343). We stated in the direct final rule that if we received adverse comment by July 18, 2002, we would publish a timely notice of withdrawal in the Federal Register. We subsequently received one adverse comment on the direct final rule. We will address that comment in a subsequent final action based on the parallel proposal also published on June 18, 2002 (67 FR 41363). As stated in the parallel proposal, we will not institute a second comment period on this action.

DATES: As of August 19, 2002, EPA withdraws the direct final rule published at 67 FR 41343, on June 18, 2002.

FOR FURTHER INFORMATION CONTACT: David Abdalla, Office of Regulatory Enforcement, Multimedia Enforcement Division, Mail Code 2248A, 1200 Pennsylvania Avenue, NW., Washington, DC 20460, (202) 564-2413.

Dated: August 13, 2002.
John Peter Suarez,
Assistant Administrator, Office of Enforcement and Compliance Assurance, Environmental Protection Agency.

[FR Doc. 02-20986 Filed 8-16-02; 8:45 am]

BILLING CODE 6560-50-P